DEPARTMENT OF ENERGY

Federal Energy Regulatory Commission

[Project No. 13286-000]

Alaska Village Electric Cooperative; Notice of Preliminary Permit Applications Accepted for Filing and Soliciting Comment, Motions To Intervene, and Competing Applications

February 6, 2009.

On September 16, 2008, Alaska Village Electric Cooperative filed an application, pursuant to section 4(f) of the Federal Power Act, proposing to study the feasibility of the Kogoluktuk River Project, to be located on the Kogoluktuk River, Northwest Arctic Borough, Alaska.

The proposed Kogoluktuk River Project consists of: (1) A proposed 500-foot-long, 250-foot-high earth filled gravity dam, (2) a proposed reservoir having a surface area of 13,440 acres, with a storage capacity of 335,000 acre-feet, (3) a proposed powerhouse containing three generating with a total installed capacity of 4 megawatts, (4) a proposed 7.5-mile-long, 12.4 kilovolt transmission line, and (5) appurtenant facilities. The Alaska Village Electric Cooperative, project would have an average annual generation of 16 gigawatt-hours and be sold to a local utility.

Applicant Contact: Mr. Brent Petrie, Alaska Village Electric Cooperative, 5534 4831 Eagle Street, Anchorage, AK 99503, phone (907) 565-5358.

FERC Contact: Robert Bell, (202) 502-6062.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13286) in the docket number field to access the document. For assistance, call toll-free 1-866-208-3372.

Kimberly D. Bose,
Secretary.

[FR Doc. E9-3225 Filed 2-13-09; 8:45 am]

BILLING CODE 6717-01-P